DEPARTMENT OF COMMERCE

International Trade Administration

[A-570-851]

Certain Preserved Mushrooms From the People's Republic of China: Initiation of New Shipper Antidumping Duty Review and Partial Rescission of Administrative Review

AGENCY: Import Administration, International Trade Administration, Department of Commerce.

SUMMARY: The Department of Commerce has received requests to conduct a new shipper review of the antidumping duty order on certain preserved mushrooms from the People's Republic of China. In accordance with section 751(a)(2)(B) of the Tariff Act of 1930, as amended, and 19 CFR 351.214(d), we are initiating a new shipper review for Shantou Hongda Industrial General Corporation and Shenxian Dongxing Foods Co., Ltd.

EFFECTIVE DATE: March 30, 2001.

FOR FURTHER INFORMATION CONTACT: David J. Goldberger or Kate Johnson, Import Administration, International Trade Administration, U.S. Department of Commerce, 14th Street and Constitution Avenue, NW., Washington, DC 20230; telephone (202) 482-4136 or (202) 482-4929.

Applicable Statute and Regulations

Unless otherwise indicated, all citations to the Tariff Act of 1930, as amended (“the Act”), are references to the provisions effective January 1, 1995, the effective date of the amendments made to the Act by the Uruguay Round Agreements Act. In addition, unless otherwise indicated, all references to the Department of Commerce's (“the Department's”) regulations are to 19 CFR part 351 (2000).

SUPPLEMENTARY INFORMATION:

Background

On February 27, 2001, the Department received requests from Shantou Hongda Industrial General Corporation (“Shantou Hongda”) and Shenxian Dongxian Foods Co., Ltd. (“Shenxian Dongxing”), pursuant to section 751(a)(2)(B) of the Act, and in accordance with 19 CFR 351.214, for a new shipper review of the antidumping duty order on certain preserved mushrooms (“mushrooms”) from the People's Republic of China (“PRC”). This order has a February anniversary month. See Notice of Amendment of Final Determinations of Sales at Less-Than-Fair-Value and Antidumping Duty Order: Certain Preserved Mushrooms from the People's Republic of China, 64 FR 8308 (February 19, 1999). Therefore, these requests are timely pursuant to 19 CFR 351.214(b)(2)(c).

On March 22, 2001, based on a request from the Coalition for Fair Preserved Mushroom Trade,¹ we initiated an administrative review with respect to Shantou Hongda and Shenxian Dongxian, among other companies. For further discussion, see “Partial Rescission of Administrative Review” section, below.

¹ The Coalition includes the American Mushroom Institute and the following domestic companies: L.K. Bowman, Inc., Modern Mushroom Farms, Inc., Monterey Mushrooms, Inc., Mount Laurel Canning Corp., Mushroom Canning Company, Southwood Farms, Sunny Dell Foods, Inc., and United Canning Corp.

In accordance with 19 CFR 351.214(b)(2)(i) and (iii)(A), Shantou Hongda and Shenxian Dongxing have certified (1) that they did not export mushrooms to the United States during the period of investigation (“POI”); and (2) that, since the investigation was initiated, they never have been affiliated with any exporter or producer who did export mushrooms to the United States during the POI, including those not examined during the investigation. Also, in accordance with 19 CFR 351.214(b)(2)(iv), Shantou Hondga and Shenxian Dongxing submitted documentation establishing (1) the date on which they first shipped the subject merchandise to the United States, (2) the volume of that shipment, and (3) the date of the first sale to an unaffiliated customer in the United States. Therefore, in accordance with section 751(a)(2)(B) of the Act and 19 CFR 351.214(b), we are initiating the new shipper review of the antidumping duty order on mushrooms from the PRC.

It is the Department's practice in cases involving non-market economies to require that a company seeking to establish eligibility for an antidumping duty rate separate from the country-wide rate provide de jure and de facto evidence of an absence of government control over the company's export activities. Accordingly, we will issue questionnaires to Shantou Hondga and Shenxian Dongxing (including a separate rates section), allowing approximately 37 days for response. If the response from each respondent provides sufficient indication that it is not subject to either de jure or de facto government control with respect to its exports of mushrooms, the review of each new shipper will proceed. If, on the other hand, a respondent does not demonstrate its eligibility for a separate rate, then it will be deemed to be affiliated with other companies that exported during the POI, and the new shipper review of that respondent will be rescinded.

Partial Rescission of Administrative Review

We have confirmed, based on the above-mentioned information and subject to Shantou Hongda and Shexian Dongxing each demonstrating the absence of government control over their export activities, that Shantou Hongda and Shenxian Dongxing are both eligible for a new shipper review. Accordingly, we are rescinding the administrative review previously initiated for these companies. See Initiation of Antidumping Duty and Countervailing Duty Administrative Reviews, 66 FR 10637 (March 22, 2001).

Initiation of Reviews

In accordance with section 751(a)(2)(B)(ii) of the Act and 19 CFR 351.214(d)(1), we are initiating a new shipper review of the antidumping duty order on mushrooms from the PRC. On March 12, 2001, Shantou Hongda and Shenxian Dongxing agreed to waive the time limits in order that the Department, pursuant to 19 CFR 351.214(j)(3), may conduct this review concurrently with the second annual administrative review of this order, that is being conducted pursuant to section 751(a)(1) of the Act. Therefore, we intend to issue the preliminary results of this review not later than 245 days after the last day of the anniversary month of the order. All provisions of 19 CFR 351.214 will apply to Shantou Hondga and Shenxian Dongxing throughout the duration of this new shipper review.

Antidumping duty proceeding | Period to be reviewed
People's Republic of China: Certain Preserved Mushrooms, A-570-851; | 02/01/00-1/31/01
Shantou Hongda Industrial General Corporation
Shenxian Dongxing Foods Co., Ltd.

Pursuant to 19 CFR 351.214(g)(i)(A), the standard period of review (“POR”) in a new shipper review, which like this one, was initiated in the month immediately following the anniversary month, is the twelve month period immediately preceding the anniversary month. Therefore, the POR for this new shipper review is February 1, 2000, through January 31, 2001.

Concurrent with publication of this notice, and in accordance with 19 CFR 351.214(e), we will instruct the Customs Service to suspend liquidation of any unliquidated entries of the subject merchandise from the relevant exporter or producer, and to allow, at the option of the importer, until the completion of the review, the posting of a bond or security in lieu of a cash deposit for each entry of the subject merchandise exported by the above-listed companies.

Interested parties that need access to proprietary information in this new shipper review should submit applications for disclosure under administrative protective orders in accordance with 19 CFR 351.305 and 351.306.

This initiation and notice are in accordance with section 751(a) of the Act (19 U.S.C. 1675(a)) and 19 CFR 351.214.

March 23, 2001.
Richard W. Moreland,
Deputy Assistant Secretary Import Administration.

[FR Doc. 01-7927 Filed 3-29-01; 8:45 am]

BILLING CODE 3510-DS-P